DEPARTMENT OF COMMERCE

International Trade Administration Mission Statement

AGENCY: Department of Commerce.

ACTION: Notice.

Mission Statement; Assistant Secretarial Trade Mission to Vietnam; June 16-20, 2008

I. Mission Description

The United States Department of Commerce, International Trade Administration, U.S. Commercial Service is organizing a Trade Mission to Hanoi and Ho Chi Minh City, Vietnam, June 16-20, 2008, to be led by Assistant Secretary for Trade Promotion and Director General of the U.S. and Foreign Commercial Service Israel Hernandez.

The mission will focus on helping U.S. companies launch or increase their export business in the Vietnamese market. The mission will help participating firms gain market information, make business and government contacts, solidify business strategies, and advance specific projects, towards the goal of increasing U.S. exports to Vietnam. The mission will include business-to-business matchmaking appointments with local companies, as well as meetings with key government officials, and American and local chambers of commerce. The delegation will be comprised of U.S. firms representing a cross section of U.S. industries with commercial interests in Vietnam.

II. Commercial Setting

With a GDP of $61 billion and a young population of 84 million, Vietnam is one of the fastest growing economies in Asia (8.4% growth in 2006) and a new member of the World Trade Organization (WTO) (January 11, 2007). Since the signing of the U.S.-Vietnam Bilateral Trade Agreement in 2001, two-way trade has increased from about $1.5 billion (2001) to $9.7 billion (2006). Total U.S. merchandise exports to Vietnam in 2006 reached $1.1 billion, and in 2007, U.S. exports grew by an estimated 65.1% over the previous year.

Industrial production continues to grow at 14-15% per annum, as the country follows an increasingly sophisticated foreign investment- and export-led growth strategy in such industries as agriculture and aquaculture, furniture, textiles and now consumer electronics. Over the past five years, multilateral development banks have expanded loan portfolios to fund aggressive infrastructure (transportation, energy, telecommunications) growth and will continue to do so into the foreseeable future. New WTO market-opening commitments will continue to be phased in through 2015, making it easier for U.S. companies to open businesses and sell and distribute products in most major sectors. The telecommunications, power production, and oil and gas equipment markets are well above $2.0 billion each and growing significantly each year. IT infrastructure, financial services, environmental products, aviation and airport equipment, security, mining, medical devices and franchising present further lucrative selling opportunities for U.S. exporters. Also, industrial inputs ranging from raw materials to sophisticated manufacturing technology are needed to fuel the Vietnam government's export-led growth strategy. Rising incomes in Ho Chi Minh City and Hanoi, which tend to be four times the national average, are opening visible new selling opportunities for consumer goods producers and service-sector providers.

Vietnam's government has successfully privatized a few small State-Owned Enterprises (SOEs), and will continue to do so. However, in major economic sectors such as energy, banking, telecommunications, oil and gas, and shipping, the government will “equitize” (offer shares of large state corporations to investors while maintaining a majority stake) SOEs over the next five to ten years. While challenges remain for U.S. companies doing business in Vietnam, evolving and improving regulatory and commercial law regimes are beginning to address business corruption, weak intellectual property rights enforcement and a lack of transparency and consistency. The mission is designed to assist U.S. companies to identify and capture these opportunities.

III. Mission Goals

The Business Development Mission to Vietnam will help U.S. firms initiate or expand their exports to Vietnam's leading industry sectors by providing business-to-business introductions, market access information, and information on U.S. Government trade financing programs.

IV. Mission Scenario

The Business Development Mission to Vietnam will include stops in Hanoi and Ho Chi Minh City. In each city, participants will:

• Meet with government officials.

• Meet with potential buyers, agents/distributors and partners.

• Attend briefings by Embassy officials on the economic and commercial climates.

Receptions and other business events will be organized to provide mission participants with further opportunities to speak with local business and government representatives, as well as U.S. business executives living and working in the region.

V. Proposed Timetable

Monday, June 16, 2008

Mission Begins in Hanoi

Market Briefing

Business Delegation Matchmaking

Networking Reception

Tuesday, June 17, 2008

Business Delegation Matchmaking

Wednesday, June 18, 2008

Travel to Ho Chi Minh City

Evening Reception

Thursday, June 19, 2008

Market Briefing

Business Delegation Matchmaking

Friday, June 20, 2008

Business Delegation Matchmaking

Mission Concludes

VI. Participation Requirements

All parties interested in participating in the Vietnam Business Development Mission must complete and submit an application package for consideration by the Department of Commerce. All applicants will be evaluated on their ability to meet certain conditions and best satisfy the selection criteria as outlined below. A maximum of 22 companies will be selected to participate in the mission from the applicant pool. U.S. companies already doing business with Vietnam as well as experienced U.S. exporters seeking to enter Vietnam for the first time are particularly encouraged to apply.

Fees and Expenses

After a company has been selected to participate on the mission, a payment to the Department of Commerce in the form of a participation fee is required. The participation fee will be $3,750 per firm, which includes one principal representative. The fee for each additional firm representative is $850. Expenses for travel, lodging, most meals, and incidentals will be the responsibility of each mission participant. The option to participate in the mission is also being offered to U.S.-based firms with an established presence in Vietnam or neighboring countries; the same fee structure applies.

Conditions for Participation

• An applicant must submit, by the specified deadline, a completed and signed mission application and supplemental application materials, including adequate information on the company's products and/or services, and the company's primary market objectives, in order to facilitate evaluation of the application and appropriate matching with potential business partners.

• Each applicant must also certify that the company meets Departmental guidelines for participation. A company's products or services should be either produced in the United States, or, if not, marketed under the name of a U.S. firm and have at least 51 percent U.S. content of the value of the finished product or service.

Selection Criteria for Participation: Selection will be based on the following criteria, listed in decreasing order of importance:

• Suitability of the company's products or services in Vietnam

• Applicant's potential for business in Vietnam, including likelihood of exports resulting from the mission and applicant's export experience

• Consistency of the applicant's goals and objectives with the stated scope of the trade mission

Referrals from political organizations and any documents containing references to partisan political activities (including political contributions) will be removed from an applicant's submission and not considered during the selection process.

VII. Timeframe for Recruitment and Applications

Mission recruitment will be conducted in an open and public manner, including publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows. The International Trade Administration will explore and welcome outreach assistance from other interested organizations, including other U.S. Government agencies.

Recruitment for the Mission will begin immediately and close April 11, 2008. Applications are available on-line on the Vietnam Business Development Mission Web site at http://www.export.gov/vietnammission. They can also be obtained by contacting the Mission Project Officers listed below.

Applications received after April 11, 2008 will be considered only if space and scheduling constraints permit.

Contacts:

Sean Timmins, Commercial Service Trade Missions Program Tel: 202-482-1841/E-mail: vietnammission@mail.doc.gov

Karen Dubin, Commercial Service Trade Missions Program Tel: 202-482-3786/E-mail: vietnammission@mail.doc.gov

Sean Timmins,
Trade Mission Project Officer, Commercial Service Trade Missions Program, Office of Domestic Operations, U.S. Commercial Service, Washington, DC 20004, Tel: 202-482-1841/E-mail: vietnammission@mail.doc.gov.

[FR Doc. E8-4798 Filed 3-10-08; 8:45 am]

BILLING CODE 3510-25-P